DEPARTMENT OF HEALTH AND HUMAN SERVICES

Administration for Children and Families

Proposed Information Collection Activity; Comment Request

Proposed Project:

Title: Feasibility Test for Design Phase of National Study of Child Care Supply and Demand.

OMB No.: New Collection.

Description: The Administration for Children and Families (ACF), U.S. Department of Health and Human Services (HHS), intends to collect information as part of the Design Phase of the National Study of Child Care Supply and Demand. This effort will gather information that will be useful for evaluating the feasibility and improving the design of a national study of child care supply and demand. The proposed collection will consist of telephone calls and in-person interviews with various types of caregivers, including parents, home-based child care providers, center-based child care providers and before- and after-school programs. These data collection efforts will be used to examine the functioning of draft survey instruments. The feasibility test procedures will help inform several decisions about proposed design of the national study, including sampling methods, costs and advantages associated with alternative interviewing protocols and reactions to the proposed methods.

Respondents: General population households, home-based and center-based child care providers and public schools serving children under age 13.

Annual Burden Estimates

Instrument | Annual number of respondents | Number of responses per respondent | Average burden hours per response | Estimated annual burden hours
Eligibility calls to Before/After School Programs | 150 | 1 | 2 | 30
Household screening calls | 1,000 | 1 | 15 | 150
Telephone calls with households with children under age 13 | 160 | 1 | 5 | 80
Telephone calls with providers of home-based care from administrative lists | 40 | 1 | 3 | 12
Telephone calls with center-based providers of before/after school care | 20 | 1 | 5 | 10
Telephone calls with home-based child care providers identified through household surveys | 64 | 1 | 3 | 19
Center-based providers from administrative lists | 48 | 1 | 5 | 24
In-person interviews with parents of children in non-parental care | 50 | 1 | 4 | 20
In-person interviews with child-care provider staff | 50 | 1 | 4 | 20
Estimated Total Annual Burden Hours |  |  |  | 365

Additional Information: In compliance with the requirements of section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfoco1lection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 24, 2008.
Brendan C. Kelly,
OPRE Reports Clearance Officer.

[FR Doc. E8-25955 Filed 10-30-08; 8:45 am]

BILLING CODE 4184-01-M